DEPARTMENT OF TRANSPORTATION

Federal Aviation Administration

14 CFR Part 39

[Docket No. 2001-NM-393-AD; Amendment 39-12722; AD 2002-08-14]

RIN 2120-AA64

Airworthiness Directives; Airbus Model A300 B2 and B4; A300 B4-600, B4-600R, and F4-600R (Collectively Called A300-600); and A310 Series Airplanes

AGENCY: Federal Aviation Administration, DOT.

ACTION: Final rule; request for comments.

SUMMARY: This amendment adopts a new airworthiness directive (AD) that is applicable to all Airbus Model A300 B2 and B4; A300 B4-600, B4-600R, and F4-600R (collectively called A300-600); and A310 series airplanes. This action requires identification of the part number and serial number of the parking brake operated valve (PBOV); and, if necessary, inspection of the PBOV, including a functional check of the PBOV, and follow-on and corrective actions. This action also provides for optional terminating action for the requirements of this AD. This action is necessary to prevent loss of the yellow hydraulic system, which provides all the hydraulics for certain spoilers; elements of the hydraulics for flaps, stabilizer, pitch and yaw feel systems, pitch and yaw autopilot, and yaw damper; and elevator, rudder, and aileron. This action is intended to address the identified unsafe condition.

DATES: Effective May 8, 2002.

The incorporation by reference of certain publications listed in the regulations is approved by the Director of the Federal Register as of May 8, 2002.

Comments for inclusion in the Rules Docket must be received on or before May 23, 2002.

ADDRESSES: Submit comments in triplicate to the Federal Aviation Administration (FAA), Transport Airplane Directorate, ANM-114, Attention: Rules Docket No. 2001-NM-393-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2001-NM-393-AD” in the subject line and need not be submitted in triplicate. Comments sent via the Internet as attached electronic files must be formatted in Microsoft Word 97 for Windows or ASCII text.

The service information referenced in this AD may be obtained from Airbus Industrie, 1 Rond Point Maurice Bellonte, 31707 Blagnac Cedex, France. This information may be examined at the FAA, Transport Airplane Directorate, 1601 Lind Avenue, SW., Renton, Washington; or at the Office of the Federal Register, 800 North Capitol Street, NW., suite 700, Washington, DC.

FOR FURTHER INFORMATION CONTACT: Tom Groves, Aerospace Engineer, International Branch, ANM-116, FAA, Transport Airplane Directorate, 1601 Lind Avenue, SW., Renton, Washington 98055-4056; telephone (425) 227-1503; fax (425) 227-1149.

SUPPLEMENTARY INFORMATION: The Direction Générale de l'Aviation Civile (DGAC), which is the airworthiness authority for France, notified the FAA that an unsafe condition may exist on all Airbus Model A300 B2 and B4; A300 B4-600, B4-600R, and F4-600R (collectively called A300-600); and A310 series airplanes. The DGAC advises that leakage has been found on certain parking brake operated valves (PBOVs) on Airbus Model A320 series airplanes. It is possible that the same type of PBOV may be installed on some Model A300 B2 and B4, A300-600, and A310 series airplanes. Those PBOVs have been installed on airplanes in production, and as spares on airplanes in service. The leakage may be found at one or more of three hydraulic connections or at the vent hole. The leakage has been attributed to excessive roughness of the piston rod surface leading to wear of the internal seal. This condition, if not corrected, could result in loss of the yellow hydraulic system including the parking brake accumulator, loss of the parking/emergency braking system, and runway overrun when alternate/emergency braking is needed. The yellow circuit also provides all the hydraulics for certain spoilers; elements of the hydraulics for flaps, stabilizer, pitch and yaw feel systems, pitch and yaw autopilot, and yaw damper; and elevator, rudder, and aileron.

Related Rulemaking

The FAA has issued or intends to issue similar rulemaking for Airbus Model A319, A320, A321, A330, and A340 series airplanes.

Explanation of Relevant Service Information

Airbus has issued Service Bulletins A300-32A0441 (for Model A300 B2 and B4 series airplanes), A300-32A6087 (for Model A300-600 series airplanes), and A310-32A2124 (for Model A310 series airplanes); all dated September 10, 2001. The service bulletins describe procedures for identifying the part number and serial number of the PBOV. For a PBOV having a certain part and serial number, the service bulletins describe procedures for an inspection to detect leakage or spray from the vent hole and to detect leakage or seepage of the three hydraulic connections. The inspection includes a test (functional check) of the PBOV. The service bulletins recommend repetitive tests if the PBOV passes the test; and repair or replacement if the PBOV fails, with repetitive tests if necessary. For certain conditions when a replacement spare is unavailable, the service bulletins recommend contacting the manufacturer for further action. The DGAC classified these service bulletins as mandatory and issued French airworthiness directive 2001-510(B), dated October 17, 2001, to address this unsafe condition on airplanes operating in France.

The service bulletins refer to Messier-Bugatti Service Bulletin A25315-32-822 as an additional source of service information for the PBOV repair.

FAA's Conclusions

These airplane models are manufactured in France and are type-certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Rule

Since an unsafe condition has been identified that is likely to exist or develop on other airplanes of the same type design registered in the United States, this AD is being issued to prevent loss of the yellow hydraulic system, which provides all the hydraulics for certain spoilers; elements of the hydraulics for flaps, stabilizer, pitch and yaw feel systems, pitch and yaw autopilot, and yaw damper; and elevator, rudder, and aileron. This AD requires accomplishment of the actions specified in the service bulletins described previously, except as discussed below.

Difference Between AD and Relevant Service Information

Operators should note that, although the service bulletins specify that the manufacturer may be contacted for disposition of certain repair conditions, this AD requires those corrective actions to be accomplished in accordance with a method approved by either the FAA or the DGAC (or its delegated agent). In light of the type of action required to address the identified unsafe condition, and in consonance with existing bilateral airworthiness agreements, the FAA has determined that, for this AD, corrective action approved by either the FAA or the DGAC is acceptable for compliance.

Interim Action

This is considered to be interim action. The FAA and the DGAC are currently considering requiring replacement of all affected PBOVs. However, this AD does not require that action, but provides it as optional to terminate the repetitive actions required by this AD. The planned compliance time for the PBOV replacement is sufficiently long so that notice and opportunity for prior public comment will be practicable.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issued-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket 2001-NM-393-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulation (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-08-14 Airbus Industrie: Amendment 39-12722. Docket 2001-NM-393-AD.

Applicability: All model A300 B2 and B4; A300 B4-600, B4-600R, and F4-600R (collectively called A300-600); and A310 series airplanes; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent loss of the yellow hydraulic system, which provides all the hydraulics for certain spoilers; elements of the hydraulics for flaps, stabilizer, pitch and yaw feel systems, pitch and yaw autopilot, and yaw damper; and elevator, rudder, and aileron, accomplish the following:

Inspection and Functional Check

(a) Within 7 days after the effective date of this AD, identify the part and serial number of the parking brake operated valve (PBOV) to determine whether the PBOV is an affected part, as identified by Airbus Service Bulletin A300-32A0441 (for Model A300 B2 and B4 series airplanes), A300-32A6087 (for Model A300-600 series airplanes), or A310-32A2124 (for Model A310 series airplanes), all dated September 10, 2001; as applicable.

(1) If the PBOV is NOT an affected part, no further action is required by this AD;

(2) If the PBOV is an affected part: Except as required by paragraph (b) of this AD, prior to further flight, test the PBOV in accordance with the applicable service bulletin; and thereafter perform follow-on and corrective actions (including repetitive tests and repair of the PBOV or replacement with a serviceable PBOV) at the time specified by and in accordance with the service bulletin, as applicable.

(b) If the applicable service bulletin identified in paragraph (a) of this AD specifies to contact “SEE32” for corrective action: Prior to further flight, perform the corrective action in accordance with a method approved by either the Manager, International Branch, ANM-116, FAA, Transport Airplane Directorate, or the Direction Générale de l' Aviation Civile (DGAC) (or its delegated agent.)

Optional Terminating Action

(c) Replacement of the PBOV with a new, nonaffected PBOV terminates the requirements of this AD. Affected PBOVs are identified in Airbus Service Bulletin A300-32A0441 (for Model A300 B2 and B4 series airplanes), A300-32A6087 (for Model A300-600 series airplanes), or A310-32A2124 (for Model A310 series airplanes), all dated September 10, 2001; as applicable.

Spare

(d) As of the effective date of this AD, no person may install an affected PBOV on any airplane, unless that PBOV is in compliance with all applicable requirements of this AD. Affected PBOVs are identified by Airbus Service Bulletin A300-32A0441 (for Model A300 B2 and B4 series airplanes), A300-32A6087 (for Model A300-600 series airplanes), or A310-32A2124 (for Model A310 series airplanes), all dated September 10, 2001; as applicable.

Alternative Methods of Compliance

(e) An alternative method of compliance or adjustment of the compliance time that provides an acceptable level of safety may be used if approved by the Manager, International Branch, ANM-116. Operators shall submit their requests through an appropriate FAA Principal Maintenance Inspector, who may add comments and then send it to the Manager, International Branch, ANM-116.

Note: Information concerning the existence of approved alternative methods of compliance with this AD, if any, may be obtained from the International Branch, ANM-116.

Special Flight Permits

(f) Special flight permits may be issued in accordance with sections 21.197 and 21.199 of the Federal Aviation Regulation (14 CFR 21.197 and 21.199) to operate the airplane to a location where the requirements of this AD can be accomplished.

Incorporation by Reference

(g) Except as required by paragraph (b) of this AD: The actions must be done in accordance with Airbus Service Bulletin A300-32A0441, including Appendix 01, dated September 10, 2001; Airbus Service Bulletin A300-32A6087, including Appendix 01, dated September 10, 2001; and Airbus Service Bulletin A310-21A2124, including Appendix 01, September 10, 2001. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note: The subject of this AD is addressed in French airworthiness directive 2001-510(B), dated October 17, 2001.

Effective Date

(h) This amendment becomes effective on May 8, 2002.

Issued in Renton, Washington, on April 12, 2002.
Ali Bahrami,
Acting Manager, Transport Airplane Directorate, Aircraft Certification Service.

[FR Doc. 02-9569 Filed 4-22-02; 8:45 am]

BILLING CODE 4910-13-P